DEPARTMENT OF AGRICULTURE

Natural Resources Conservation Service

Withdrawal of Notice of Intent To Prepare an Environmental Impact Statement for the Upper Deckers Creek Watershed, Preston County, WV

AGENCY: Natural Resources Conservation Service.

ACTION: Withdrawal of Notice of Intent to prepare an EIS.

SUMMARY: In the Monday, November 21, 2011, Federal Register, Vol. 76. No. 224, the Natural Resources Conservation Service (NRCS) announced its intension to prepare an Environmental Impact Statement (EIS) for the rehabilitation of the Upper Deckers Creek Site 1, in Preston County, West Virginia. Preparation of an EIS is no longer planned at this time.

The purpose of the project is to bring the dam up to current dam safety standards. NRCS policy requires that an EIS be prepared for watershed project activities that include stream channel realignment, increases in channel capacity, or projects that require congressional action or that have the potential to significantly affect the quality of the human environment. Upon review, it now appears that none of these conditions apply to the Upper Deckers Creek Site 1 dam rehabilitation project. Therefore, NRCS is withdrawing its Notice of Intent to prepare an EIS.

FOR FURTHER INFORMATION CONTACT: Kevin Wickey, State Conservationist, Natural Resources Conservation Service, 1550 Earl Core Road, Suite 200, Morgantown, West Virginia 26505. Telephone: (304) 284-7545.

SUPPLEMENTARY INFORMATION: The project involves the rehabilitation of the Upper Deckers Creek Site 1 dam and impoundment to meet current design criteria and performance standards. The Site 1 dam, located about 1.5 miles northwest of Arthurdale, WV, was constructed in 1969 as a single purpose flood control structure. Alternatives under consideration include the addition of rural raw water supply as a project purpose and increasing the reservoir volume, evaluating other raw water supply sources, raising the top of the dam elevation, flattening upstream and downstream face of the dam to improve slope stability, installing an internal drainage system in the dam, constructing a new auxiliary spillway, and constructing a new principal spillway riser structure. In addition to these structural alternatives, a no-action and a decommissioning alternative will be evaluated.

A draft Plan-Environmental Assessment will be prepared and circulated for review by agencies and the public. The Natural Resources Conservation Service invites participation and consultation of agencies and individuals that have special expertise, legal jurisdiction, or interest in the preparation of the draft environmental assessment. Comments received, including the names and addresses of those who comment, will be considered part of the public record for this proposal. As a result of the process, if it is determined that the project may have significant impacts, the EIS process will be reinitiated and a NOI published. Further information on the proposed action may be obtained from Kevin Wickey, State Conservationist, at the above address or telephone (304-284-7545).

Dated: February 24, 2012.
Kevin Wickey,
State Conservationist.

(This activity is listed in the Catalog of Federal Domestic Assistance under No. 10.904—Watershed Protection and Flood Prevention—and is subject to the provisions of Executive Order 12372, which requires intergovernmental consultation with State and local officials.)

[FR Doc. 2012-5429 Filed 3-5-12; 8:45 am]

BILLING CODE 3410-16-P